NUCLEAR REGULATORY COMMISSION

[Docket Nos. 52-012 And 52-013]

South Texas Project Nuclear Operating Company; Acceptance for Docketing of an Application for Combined License for South Texas Project Units 3 and 4

On September 27, 2007, the U.S. Nuclear Regulatory Commission (NRC, the Commission) received a combined license (COL) application from South Texas Project Nuclear Operating Company (STPNOC), dated September 20, 2007, as supplemented by letters dated September 26, 2007, October 15, 2007, October 18, 2007, November 8, 2007, November 12, 2007, November 13, 2007, and November 21, 2007, filed pursuant to Section 103 of the Atomic Energy Act and Subpart C, “Combined Licenses,” of Title 10 of the Code of Federal Regulations (10 CFR), Part 52, “License Certifications and Approvals for Nuclear Power Plants.” The site location is in Matagorda County, Texas and is identified as the South Texas Project Electrical Generating Station site. A notice of receipt and availability of this application was previously published in the Federal Register (72 FR 60394) on October 24, 2007.

The NRC staff has determined that STPNOC has submitted information in accordance with 10 CFR part 2, “Rules of Practice for Domestic Licensing Proceedings and Issuance of Orders,” and 10 CFR part 52 that is acceptable for docketing. The docket numbers established for Units 3 and 4 are 52-012 and 52-013, respectively.

The NRC staff will perform a detailed technical review of the COL application. Docketing of the COL application does not preclude the NRC from requesting additional information from the applicant as the review proceeds, nor does it predict whether the Commission will grant or deny the application. The Commission will conduct a hearing in accordance with subpart L, “Informal Hearing Procedures for NRC Adjudications,” of 10 CFR part 2 and will receive a report on the COL application from the Advisory Committee on Reactor Safeguards in accordance with 10 CFR 52.87, “Referral to the Advisory Committee on Reactor Safeguards (ACRS).” If the Commission finds that the COL application meets the applicable standards of the Atomic Energy Act and the Commission's regulations, and that required notifications to other agencies and bodies have been made, the Commission will issue a COL, in the form and containing conditions and limitations that the Commission finds appropriate and necessary.

In accordance with 10 CFR part 51, the Commission will also prepare an environmental impact statement for the proposed action. Pursuant to 10 CFR 51.26, and as part of the environmental scoping process, the staff intends to hold a public scoping meeting. Detailed information regarding this meeting will be included in a future Federal Register notice.

Finally, the Commission will announce in a future Federal Register notice, the opportunity to petition for leave to intervene in the hearing required for this application by 10 CFR 52.85.

Documents may be examined, and/or copied for a fee, at the NRC's Public Document Room (PDR), located at One White Flint North, Public File Area O1 F21, 11555 Rockville Pike (first floor), Rockville, Maryland 20852, and will be accessible electronically through the Agencywide Documents Access and Management System (ADAMS) Public Electronic Reading Room link at the NRC Web site http://www.nrc.gov/reading-rm/adams.html. Persons who do not have access to ADAMS, or who encounter problems in accessing documents located in ADAMS should contact the NRC PDR Reference staff by telephone at 1-800-397-4209, 301-415-4737, or by e-mail to pdr@nrc.gov. The application is also available at http://www.nrc.gov/reactors/new-licensing/col.html.

Dated at Rockville, Maryland this 29th day of November 2007.
For the Nuclear Regulatory Commission.
Thomas A. Bergman,
Deputy Director, Division of New Reactor Licensing, Office of New Reactors.

[FR Doc. E7-23539 Filed 12-4-07; 8:45 am]

BILLING CODE 7590-01-P